DEPARTMENT OF DEFENSE

Department of the Army

Record of Decision (ROD) for the Development and Implementation of Range-Wide Mission and Major Capabilities at White Sands Missile Range (WSMR), NM

AGENCY: Department of the Army, DoD.

ACTION: Notice of availability (NOA).

SUMMARY: The Department of the Army announces the availability of the ROD that documents and summarizes the decision to proceed with implementing the Preferred Alternative (Alternative (1) identified in the Final Environmental Impact Statement (FEIS), including the following proposed land use changes: expansion of the Main Post and alterations in authorized uses of range areas; development of new and expanded infrastructure throughout the installation, and increase in the level of test activities; development of six new Specialized Areas (four for test operations and two to support small-scale military training); establishment of a Land Use and Airspace Strategy Plan and siting process for facilitating future tests and training activities at WSMR; and continued stationing of the Engineer Battalion and continued Main Post expansion for the Engineer Battalion, Brigade Combat Team (BCT) Modernization, and other ongoing tenant programs.

ADDRESSES: To request copies of the ROD, please contact: White Sands Test Center, Operations Office, Attention: Catherine Giblin, 124 Crozier Street, Building 124, Room B-15, White Sands Missile Range, NM 88002; fax: (575) 678-4082; e-mail: WSMREIS@conus.army.mil.

FOR FURTHER INFORMATION CONTACT: Monte Marlin, Public Affairs Office, Building 1782, Headquarters Avenue, White Sands Missile Range, NM 88002; (575) 678-1134; or e-mail monte.marlin@us.army.mil.

SUPPLEMENTARY INFORMATION: The development and implementation of a land use and airspace plan is intended to more fully realize and integrate the capabilities of the WSMR primary mission (research, development, testing, and evaluation (RDTE)) with new training capabilities and potential future Army stationing decisions. Establishing new test and training capabilities requires changing land use designations within the current installation boundaries. These changes would support current and future requirements and allow off-road vehicle maneuver on designated portions of the installation. WSMR will maintain its current RDTE mission and continue to support testing objectives of all military services and Federal agencies.

In addition to consideration of a No Action Alternative (current test capabilities and land use designations with current levels of operations and activities), the FEIS assessed an additional alternative (Alternative 2) that would include all of the actions included in the Preferred Alternative plus potential future stationing of a Heavy Brigade Combat Team (HBCT) (or comparable unit) by expanding the cantonment area and construction of supporting infrastructure and additional off-road maneuver areas for training on WSMR, On June 2, 2009, the Secretary of the Army announced a decision not to station an HBCT at WSMR in 2013; however, it was decided to retain the analysis in this FEIS to support implementation of potential future stationing decisions. After reviewing the alternatives presented in the FEIS, the Army has made the decision to implement the Preferred Alternative.

By choosing to implement the Preferred Alternative in the ROD, the Army expects direct, indirect, and cumulative impacts as a result of land use changes allowing for expanded off-road vehicle use, facilities and infrastructure construction, expanded test and training activities, and an increase in personnel to support expanded WSMR operations. Impacts analyzed include a wide range of environmental resource areas: land use, air quality, noise, geology and soils, water resources, biological resources, cultural resources, socioeconomics, transportation, utilities, hazardous and toxic substances, sustainability, and cumulative environmental effects. Significant impacts could occur to air quality, soils, water resources, biological resources, socioeconomic resources, transportation, and utilities.

As part of the decision to implement the Preferred Alternative at WSMR, the Army will enact environmental mitigation measures to minimize the impacts of this decision, including the implementation and continuation of existing environmental management programs, use of best management practices, and other specific mitigation measures.

The ROD outlines that the Preferred Alternative reflects the proper balance of initiatives for the protection of the environment, funding considerations, and the need for WSMR to expand its capabilities as a major range and test facility base to support future Army needs associated with Army Transformation, the Army Campaign Plan, modernization of the fighting force, Army Growth and Force Structure Realignment, Global Defense Posture Realignment, and other Army initiatives.

The ROD is available online at http://www.wsmr.army.mil.

Dated: May 12, 2010.
Addison D. Davis, IV,
Deputy Assistant Secretary of the Army (Environment, Safety, and Occupational Health).

[FR Doc. 2010-12017 Filed 5-18-10; 8:45 am]

BILLING CODE 3710-08-P